DEPARTMENT OF COMMERCE

National Oceanic and Atmospheric Administration

50 CFR Part 635

[I.D. 030304A]

Atlantic Highly Migratory Species; Small Coastal Shark Fishery

AGENCY: National Marine Fisheries Service (NMFS), National Oceanic and Atmospheric Administration (NOAA), Commerce.

ACTION: Regional fishery closure.

SUMMARY: NMFS is closing the commercial fishery for small coastal sharks conducted by persons aboard vessels issued a Federal Atlantic shark permit in the Gulf of Mexico region. This action is necessary because the quota for the first 2004 semiannual season in the Gulf of Mexico season has been exceeded. The commercial small coastal shark fisheries in the South Atlantic and North Atlantic regions are allocated separate quotas and will remain open until further notice.

DATES: The commercial small coastal shark fishery in the Gulf of Mexico region is closed effective from 11:30 p.m. local time March 18, 2004, through June 30, 2004.

FOR FURTHER INFORMATION CONTACT: Karyl Brewster-Geisz, 301-713-2347; fax 301-713-1917.

SUPPLEMENTARY INFORMATION: The Atlantic shark fisheries are managed under the Fishery Management Plan for Atlantic Tunas, Swordfish, and Sharks and its implementing regulations found at 50 CFR part 635 issued under authority of the Magnuson-Stevens Fishery Conservation and Management Act (16 U.S.C. 1801 et seq.).

On December 24, 2003 (68 FR 74746), NMFS announced that the small coastal shark quota for the first semiannual fishing season of the 2004 fishing year in the Gulf of Mexico region would be 11.2 metric tons (mt) dressed weight (dw) (24,691.5 lbs dw). As of February 27, 2004, preliminary reports from dealers indicate that approximately 20.7 mt dw (45,553 lbs dw) have been reported landed in the Gulf of Mexico region during the 2004 fishing year.

Under 50 CFR 635.28(b)(2), when the fishing season quota for small coastal sharks is reached for a particular region, NMFS will file for publication a notice of closure at least 14 days before the effective date. Accordingly, NMFS is closing the commercial small coastal shark fishery in the Gulf of Mexico region as of 11:30 p.m. local time March 18, 2004, through June 30, 2004. During the closure, retention of small coastal sharks is prohibited for persons fishing aboard vessels issued a commercial shark limited access permit under 50 CFR 635.4, unless the vessel is permitted to operate as a charter vessel or headboat for HMS and is engaged in a for-hire trip, in which case the recreational retention limits for sharks may apply (50 CFR 635.22(c)). The sale, purchase, trade, or barter or attempted sale, purchase, trade, or barter of carcasses and/or fins of small coastal sharks harvested by a person aboard a vessel in the Gulf of Mexico region that has been issued a commercial shark limited access permit under 50 CFR 635.4, is prohibited, except for those that were harvested, offloaded, and sold, traded, or bartered prior to the closure, and were held in storage by a dealer or processor. Small coastal sharks can be harvested, offloaded, and sold, traded, or bartered in a region other than the Gulf of Mexico until further notice.

This closure does not affect the commercial small coastal shark fisheries in the South Atlantic or North Atlantic regions which remain open until further notice. In addition, the commercial pelagic shark fishery remains open until further notice. The large coastal shark fishery in the North Atlantic is currently open, and as was announced on December 24, 2004 (68 FR 74746), will close on April 15, 2004. The recreational shark fishery is not affected by this closure.

Classification

Pursuant to 5 U.S.C. 553 (b)(B), the Assistant Administrator for Fisheries, NOAA (AA), finds that providing for prior notice and public comment for this action is impracticable and contrary to the public interest. Based on recent landings reports, this closure is necessary to prevent the further overharvest of the small coastal shark quota established for the Gulf of Mexico region. The fishery is currently underway, and any further delay in this action would cause further overharvest of the quota and be inconsistent with management requirements and objectives. NMFS provides rapid notification of the closure by publishing the closure notice in the Federal Register, faxing notification to individuals on the HMS FAX Network and to known fishery representatives. For these same reasons, the AA also finds good cause to waive the 30-day delay in effective date pursuant to 5 U.S.C. 553 (d)(3). This action is required under 50 CFR 635.28(b)(2) and is exempt from review under Executive Order 12866.

Authority: 16 U.S.C. 1801 et seq.

Dated: March 4, 2004.
Bruce C. Morehead,
Acting Director, Office of Sustainable Fisheries, National Marine Fisheries Service.

[FR Doc. 04-5283 Filed 3-4-04; 3:50 pm]

BILLING CODE 3510-22-S